DEPARTMENT OF COMMERCE

Foreign-Trade Zones Board

(Docket 68-2008)

Foreign-Trade Zone 82 Mobile, Alabama, Expansion of Manufacturing Authority, Sony Electronics Inc.(Digital Print Media Products), Dothan, Alabama

An application has been submitted to the Foreign-Trade Zones Board (the Board) by Sony Electronics Inc. (Sony), operator of Subzone 82D, requesting an expansion of the scope of manufacturing authority approved within Subzone 82D in Dothan, Alabama. The application was submitted pursuant to the provisions of the Foreign-Trade Zones Act, as amended (19 U.S.C. 81a-81u), and the regulations of the Board (15 CFR part 400). It was formally filed on December 11, 2008.

Subzone 82D (414 employees) was approved by the Board on April 19, 1996 for the manufacture of unrecorded magnetic media and battery systems (Board Order 816, 61 FR 18547, 4/26/1996). The subzone consists of four sites in Dothan, Alabama: Site 1 (74 acres) - 4275 Main Street; Site 2 (3.3 acres) - 135 Woodburn Drive; Site 3 (1.6 acres) - 921 Tate Drive; and, Site 4: 120,000 square feet on 3 acres located at 4106 Napier Front Road.

The current request involves the addition of digital print media products to the scope of authority for the subzone. Components and materials sourced from abroad (representing 62% of the value of the finished product) include: ultraviolet absorber, friction control lubricants, ribbons, binders, resin, curing agents, cleaning paper, plastic bags, spools, print media and tags (duty rate ranges from duty-free to 6.5%).

FTZ procedures could exempt Sony from customs duty payments on the foreign components used in export production of digital print media. The company anticipates that some 25 percent of the production will be exported. On its domestic sales, Sony would be able to choose the duty rates during customs entry procedures that apply to finished digital print media products (duty-free) for the foreign inputs noted above. The request indicates that the savings from FTZ procedures help improve the plant's international competitiveness.

In accordance with the Board's regulations, Elizabeth Whiteman of the FTZ Staff is designated examiner to investigate the application and report to the Board.

Public comment is invited from interested parties. Submissions (original and 3 copies) shall be addressed to the Board's Executive Secretary at the address below. The closing period for their receipt is February 20, 2009. Rebuttal comments in response to material submitted during the foregoing period may be submitted during the subsequent 15-day period to March 9, 2009.

A copy of the application and accompanying exhibits will be available for public inspection at each of the following locations:

Office of the City Clerk, City of Mobile, 9th Floor, South Tower, Government Plaza, 205 Government Street, Mobile, AL 36602.

Office of the Executive Secretary, Foreign-Trade Zones Board, U.S. Department of Commerce, Room 2111, 1401 Constitution Ave. NW, Washington, DC 20230.

For further information, contact Elizabeth Whiteman at Elizabeth_Whiteman@ita.doc.gov or (202) 482-0473.

Dated: December 12, 2008.
Andrew McGilvray,
Executive Secretary.

[FR Doc. E8-30426 Filed 12-19-08; 8:45 am]

BILLING CODE 3510-DS-S